COUNCIL ON ENVIRONMENTAL QUALITY

The National Environmental Policy Act—Collaboration Handbook

AGENCY: Council On Environmental Quality.

ACTION: Notice and request for comments.

SUMMARY: The Council on Environmental Quality (CEQ) used an interagency work group to develop a handbook to help NEPA practitioners improve the effectiveness of their NEPA processes through collaboration. The handbook focuses on collaboration in the context of the NEPA process, outlines general principles, presents useful steps, and provides information on methods of collaboration. CEQ invites comments on the proposed handbook, “Collaboration in NEPA—A Handbook for NEPA Practitioners,” that is available from CEQ directly or at http://www.NEPA.gov in the Current Developments section.

DATES: Written comments should be submitted on or before May 4, 2007.

ADDRESSES: Copies of the proposed handbook can be requested from CEQ. Electronic comments on the proposed handbook and requests for a copy of the proposed handbook can be sent to horst_greczmiel@ceq.eop.gov with the subject line reading “NEPA Modernization (Collaboration).” Fax written comments and requests to (202) 456-0753 with the subject line reading “NEPA Modernization (Collaboration).” Electronic or facsimile comments or requests are preferred because Federal offices experience intermittent mail delays caused by security screening. Written comments and requests may also be submitted to “NEPA Modernization (Collaboration), Attn: Associate Director for NEPA Oversight, 722 Jackson Place, NW., Washington, DC 20503.”

FOR FURTHER INFORMATION CONTACT: Horst Greczmiel, 202-395-5750.

SUPPLEMENTARY INFORMATION: The Council on Environmental Quality (CEQ) established a National Environmental Policy Act (NEPA) Task Force and is now implementing recommendations designed to modernize the implementation of NEPA and make the NEPA process more effective and efficient. Additional information is available on the task force Web site at http://ceq.eh.doe.gov/ntf.

The proposed handbook, “Collaboration in NEPA—A Handbook for NEPA Practitioners,” was developed to assist those responsible for conducting National Environmental Policy Act (NEPA) analyses in expanding the effective use of collaboration as part of the NEPA process. Collaboration is defined for purposes of the handbook as seeking agreements at one or more stages of the NEPA process by cultivating shared vision, trust, and communication. The main goal of the handbook is to encourage collaboration by providing examples and case studies that show how agencies have collaborated with other agencies and interested parties in the past and how agencies can better collaborate throughout a NEPA process.

The handbook describes the context for when collaboration works well, provides a basic approach to designing a collaborative NEPA process, examines the various opportunities for collaboration throughout the NEPA process, and addresses challenges to collaboration during the NEPA process. In addition to examples of strategies for preventing conflict, the handbook provides examples of Memoranda of Understanding, case studies, and resources for practitioners.

Public comments to the proposed handbook are requested by May 4, 2007.

March 19, 2007.
James L. Connaughton,
Chairman, Council on Environmental Quality.

[FR Doc. E7-5454 Filed 3-23-07; 8:45 am]

BILLING CODE 3125-W7-P